NATIONAL AERONAUTICS AND SPACE ADMINISTRATION

[Notice: (08—100)]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Jasmeet Seehra, Desk Officer for NASA; Office of Information and Regulatory Affairs; Room 10236; New Executive Office Building; Washington, DC 20503.

FOR FURTHER INFORMATION CONTACT: Requests for additional information or copies of the information collection instrument(s) and instructions should be directed to Dr. Walter Kit, NASA Clearance Officer, NASA Headquarters, 300 E Street SW., JB0000, Washington, DC 20546, (202) 358-1350, Walter.Kit-1@nasa.gov.

SUPPLEMENTARY INFORMATION:

I. Abstract

This information collection is an application form to be considered for an undergraduate or graduate scholarship. Students are required to submit an application package consisting of an application form, academic background, proposed area of study, curriculum vitae or personal statement, three letters of reference, and an essay or research proposal.

II. Method of Collection

NASA will utilize a Web-based application form with instructions and other application materials also on-line. All data will be collected via this web-based application (separate under graduate and graduate forms) and unless the user chooses to download the application form and other application materials and mail them in.

III. Data

Title: NASA Aeronautics Scholarship Program.

OMB Number: 2700-0134.

Type of Review: Revision of currently approved collection.

Affected Public: Individuals.

Estimated Number of Respondents: 400.

Estimated Time Per Response: 1.0 hour.

Estimated Total Annual Burden Hours: 400 hours.

Estimated Total Annual Cost: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Walter Kit,
NASA Clearance Officer.

[FR Doc. E8-31245 Filed 1-2-09; 8:45 am]

BILLING CODE 7510-13-P